DEPARTMENT OF COMMERCE

National Oceanic and Atmospheric Administration

50 CFR Part 660

[I.D. 030701C]

Western Pacific Fishery Management Council; Notice of Availability of Draft Biological Opinion

AGENCY: National Marine Fisheries Service (NMFS), National Oceanic and Atmospheric Administration (NOAA), Commerce.

ACTION: Notice of availability of the draft biological opinion on authorization of the pelagic fisheries under the Fishery Management Plan for the Pelagics Fisheries of the Western Pacific Region.

SUMMARY: NMFS announces the availability of a draft biological opinion on authorization of the pelagic fisheries under the Fishery Management Plan for the Pelagics Fisheries of the Western Pacific Region.

DATES: The draft document is now available.

ADDRESSES: For copies of the document contact Dr. Charles Karnella, NMFS, Pacific Islands Area Office (PIAO), 1601 Kapiolani Blvd., Suite 1110, Honolulu, HI 96814-4700.

FOR FURTHER INFORMATION CONTACT: Charles Karnella, PIAO, at 808-973-2937.

SUPPLEMENTARY INFORMATION: The Endangered Species Act draft biological opinion on authorization of the pelagic fisheries under the Fishery Management Plan for the Pelagics Fisheries of the Western Pacific Region is now available for review. The document is available from the NMFS Southwest Region at http://swr.ucsd.edu/; hard copies are available upon request (see ADDRESSES).

Authority: 16 U.S.C. 1801 et seq.

Dated: March 7, 2001.
William T. Hogarth,
Acting Assistant Administrator for Fisheries, National Marine Fisheries Service.

[FR Doc. 01-6108 Filed 3-9-01; 8:45 am]

BILLING CODE 3510-22-S